FEDERAL COMMUNICATIONS COMMISSION

47 CFR Part 74

[MB Docket No. 07-172; Report No. 2941]

Amendment of Service and Eligibility Rules for FM Broadcast Translator Stations

AGENCY: Federal Communications Commission.

ACTION: Final rule; petition for reconsideration.

SUMMARY: In this document, Petitions for Reconsideration (Petitions) have been filed in the Commission's Rulemaking proceeding concerning a rule authorizing the use of FM translators with licenses or permits in effect as of May 1, 2009, to rebroadcast the signal of a local AM Station.

DATES: Oppositions to the Petitions must be filed by January 5, 2012. Replies to an opposition must be filed January 17, 2012.

ADDRESSES: Federal Communications Commission, 445 12th Street SW., Washington, DC 20554.

FOR FURTHER INFORMATION CONTACT: Tom Hutton, Media Bureau, (202) 418-7266.

SUPPLEMENTARY INFORMATION: This is a summary of Commission's document, Report No. 2941, released December 13, 2011. The full text of this document is available for viewing and copying in Room CY-B402, 445 12th Street SW., Washington, DC or may be purchased from the Commission's copy contractor, Best Copy and Printing, Inc. (BCPI) (1-(800) 378-3160). The Commission will not send a copy of this Notice pursuant to the Congressional Review Act, 5 U.S.C. 801(a)(1)(A), because this Notice does not have an impact on any rules of particular applicability.

Subject: Amendment of Service and Eligibility Rules for FM Broadcast Translator Stations, published at 74 FR 45126, September 1, 2009, in MB Docket No. 07-172, and published pursuant to 47 CFR 1.429(e). See 1.4(b)(1) of the Commission's rules (47 CFR 1.4(b)(1)).

Number of Petitions Filed: 2.

Federal Communications Commission.
Marlene H. Dortch,
Secretary, Office of the Secretary, Office of Managing Director.

[FR Doc. 2011-32555 Filed 12-20-11; 8:45 am]

BILLING CODE 6712-01-P